SECURITIES AND EXCHANGE COMMISSION

Sunshine Act Meeting

Federal Register Citation of Previous Announcement: 68 FR 28302, May 23, 2003.

Status: Closed Meeting/Open Meeting.

Place: 450 Fifth Street, NW., Washington, DC.

Date and Time of Previously Announced Meeting: Tuesday, May 27, 2003 at 2 p.m. and Wednesday, May 28, 2003 at 10 a.m.

Change in the Meetings: Date and Time Changes.

The Closed Meeting scheduled for Tuesday, May 27, 2003 at 2 p.m., has been changed to Wednesday, May 28, 2003 at 3:30 p.m.

The Open Meeting scheduled for Wednesday, May 28, 2003 at 10 a.m., has been changed to Tuesday, May 27, 2003 at 2 p.m.

At times, changes in Commission priorities require alterations in the scheduling of meeting items. For further information and to ascertain what, if any, matters have been added, deleted or postponed, please contact:

The Office of the Secretary at (202) 942-7070.

Dated: May 23, 2003.
Margaret H. McFarland,
Deputy Secretary.

[FR Doc. 03-13495 Filed 5-23-03; 4:26 pm]

BILLING CODE 8010-01-P